DEPARTMENT OF JUSTICE

Notice of Lodging of Consent Decree Under the Comprehensive Environmental Response, Compensation and Liability Act

Notice is hereby given that on December 22, 2000, a proposed Consent Decree (“Decree”) in United States and State of Colorado v. Robert Friedland, Civil No. 96 N 1213, was lodged with the United States District Court for the District of Colorado. The United States and State of Colorado filed this action pursuant to the Comprehensive Environmental Response, Compensation and Liability Act for recovery of costs incurred by the United States and State of Colorado in responding to releases of hazardous substances at the Summitville Mine Superfund Site near Del Norte, Colorado.

Pursuant to the proposed Consent Decree, defendant Robert Friedland will pay $27,750,000, to be paid over a nine year period, to the United States and State of Colorado to resolve the claims of the governments. This action also resolves claims of Robert Friedland filed in Canada against the United States and employees of the United States, including claims by each side for attorneys' fees. The United States will pay $1.25 million to defendant Friedland to resolve all issues related to the Canadian litigation.

The funds received from defendant Friedland will be used, in part, to fund ongoing and future response actions still required at the Site. In addition, $5 million of the settlement will be paid to the Federal and State natural resource trustees to be used for restoration, replacement or acquisition of natural resources damaged by releases of hazardous substances from the Site.

The Department of Justice will receive for a period of thirty (30) days from the date of this publication comments relating to the Decree. Comments should be addressed to the Assistant Attorney General of the Environment and Natural Resources Division, Department of Justice, Washington, DC 20530, and should refer to, United States and State of Colorado v. Robert Friedland, Civil No. 96 N 1213, and D.J. Ref. # 90-11-3-1133B.

The Decree may be examined at the office of the U.S. Department of Justice, Environmental Enforcement Section, 999 18th Street, Suite 945, North Tower, Denver, Colorado; at U.S. EPA Region 8, Office of Regional Counsel, 999 18th Street, Suite 300, South Tower, Denver, Colorado. A copy of the Decree may be obtained by mail from the Consent Decree Library, U.S. Department of Justice, P.O. Box 7611, Washington, DC 20044. In requesting a copy, please enclose a check in the amount of $5.50 for the Decree (25 cents per page reproduction cost) payable to the Consent Decree Library.

Walker B. Smith,
Deputy Chief, Environmental Enforcement Section, Environment and Natural Resources Division.

[FR Doc. 00-33351 Filed 12-28-00; 8:45 am]

BILLING CODE 4410-15-M